DEPARTMENT OF AGRICULTURE

Agricultural Marketing Service

[Doc. No. CN-03-006]

Notice of Request for Extension and Revision of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget, for an extension for and revision to a currently approved information collection for the National Research, Promotion, and Consumer Information Programs.

DATES: Comments must be received by December 8, 2003.

FOR FURTHER INFORMATION CONTACT: Interested persons are invited to submit written comments concerning this notice to Whitney A. Rick, Research and Promotion Staff, Cotton Program, AMS, USDA, Stop 0224, 1400 Independence Ave., SW., Washington, DC 20250-0224, telephone (202) 720-2259 and facsimile (202) 690-1718. Comments should be submitted in triplicate. Comments may also be submitted electronically to cottoncomments@usda.gov. All comments should reference the docket number and page number of this issue of the Federal Register. All comments received will be made available for public inspection at Cotton Program, AMS, USDA, Room 2641-S, 1400 Independence Ave., SW., Washington, DC 20250 during regular business hours. A copy of this notice may be found at http://www.usda.gov/cotton/rulemaking.htm.

Whitney Rick, Research and Promotion Staff, Cotton Program, AMS, USDA, Stop 0224, 1400 Independence Ave., SW., Washington, DC 20250-0224, telephone (202) 720-2259, facsimile (202) 690-1718, or e-mail at whitney.rick@usda.gov.

SUPPLEMENTARY INFORMATION:

Title: National Research, Promotion, and Consumer Information Programs.

OMB Number: 0581-0093.

Expiration Date of Approval: Current expiration date is 07/31/04.

Type of Request: Extension and revision of a currently approved information collection.

Abstract: National research and promotion programs are designed to strengthen the position of a commodity in the marketplace, maintain and expand existing domestic and foreign markets, and develop new uses and markets for specified agricultural commodities. The U.S. Department of Agriculture has the responsibility for implementing and overseeing programs for a variety of commodities including cotton, dairy, eggs, beef, pork, soybeans, honey, potatoes, watermelons, mushrooms, hass avocados, popcorn, and peanuts. The enabling legislation includes the Beef Promotion and Research Act of 1985 [7 U.S.C. 2901-2911]; Cotton Research and Promotion Act of 1966 [7 U.S.C. 2101-2118]; the Dairy Production Stabilization Act of 1983 [7 U.S.C. 4501-4514]; the Fluid Milk Promotion Act of 1990 [7 U.S.C. 6401-6417]; the Egg Research and Consumer Information Act [7 U.S.C. 2701-2718]; the Pork Promotion, Research and Consumer Information Act of 1985 [7 U.S.C. 4801-4819]; the Soybean Promotion, Research, and Consumer Information Act [7 U.S.C. 6301-6311]; the Honey Research, Promotion, and Consumer Information Act, as amended [7 U.S.C. 4601-4613]; the Potato Research and Promotion Act [7 U.S.C. 2611-2627]; the Watermelon Research and Promotion Act [7 U.S.C. 4901-4916]; the Hass Avocado Promotion, Research, and Information Act [7 U.S.C. 7801-7813]; the Mushroom Promotion, Research, and Consumer Information Act of 1990 [7 U.S.C. 6101-6112]; the Popcorn Promotion, Research and Consumer Information Act [7 U.S.C. 7481-7491]; and the Commodity Promotion, Research, and Information Act of 1996 [7 U.S.C. 7411-7425].

These programs carry out projects relating to research, consumer information, advertising, sales promotion, producer information, market development, and product research to assist, improve, or promote the marketing, distribution, and utilization of their respective commodities. Approval of the programs is required through referendum of those who would be covered. Industry boards administer the programs. These boards usually composed of producer, handler, processor, and in some cases, importer and public members, are appointed by the Secretary of Agriculture to administer the programs. The funding for such programs is from assessments on designated industry segments. The appointed boards are responsible for collecting assessments from the affected persons covered under these programs.

The Secretary also approves the boards' budgets, plans, and projects. These responsibilities have been delegated to the Agricultural Marketing Service (AMS). The applicable commodity program areas within AMS have direct oversight of the respective programs.

The information collection requirements in this request are essential to carry out the intents of the various Acts authorizing such programs, thereby providing a means of administering the programs. The objective in carrying out this responsibility includes assuring the following: (1) Funds are collected and properly accounted for; (2) expenditures of all funds are for the purposes authorized by the enabling legislation; and (3) the board's administration of the programs conforms to USDA policy. The applicable commodity programs within AMS have direct oversight of these freestanding programs. The forms covered under this collection require the minimum information necessary to effectively carry out the requirements of the respective orders, and their use is necessary to fulfill the intents of the Acts as expressed in the orders. The information collected is used only by authorized employees of the various boards and authorized employees of USDA.

The boards administering the various programs utilize a variety of forms to carry out the responsibilities. Such forms may include reports concerning status information such as handler and importer reports; transaction reports; exemption from assessment forms and reimbursement forms; forms and information concerning referenda including ballots; forms and informaiton concerning board nominations and selection and acceptance statements; certification of industry organizations; and recordkeeping requirements. The forms and information covered under this information collection require the minimum information necessary to effectively carry out the requirements of the programs and their use is necessary to fulfill the intent of the applicable authorities.

Estimate of Burden: Public reporting burden for this collection of information is estimated to average .08 hours per response.

Respondents: Producers, processors, handlers, and/or importers of a variety of agricultural commodities.

Estimated Number of Respondents: 321,098.

Estimated Number of Responses: 4,469,027.

Estimated Number of Responses per Respondent: 13.9.

Estimated Total Annual Burden on Respondents: Estimated total annual burden is 350,920 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Whitney A. Rick, Research and Promotion Staff, Cotton Program, AMS, USDA, Stop 0224, Room 2641-S, 1400 Independence Ave., SW. Washington, DC 20250-0224, or by e-mail at cottoncomments@usda.gov. All comments received will be available for public inspection during regular business hours at the same address.

All responses to this notice will be summarized and included in the request for OMB approval. All comments will become a matter of public record.

AMS is committed to implementation of the Government Paperwork Elimination Act, which provides for the use of information resources to improve the efficiency and effectiveness of governmental operations, including providing the public with the option of submitting information or transacting business electronically to the extent possible.

Dated: October 6, 2003.
A.J. Yates,
Administrator, Agricultural Marketing Service.

[FR Doc. 03-25619 Filed 10-8-03; 8:45 am]

BILLING CODE 3410-02-P